SMALL BUSINESS ADMINISTRATION

[Declaration of Disaster #3500]

State of Alabama (Amendment #2)

In accordance with a notice received from the Department of Homeland Security—Federal Emergency Management Agency, effective May 23, 2003, the above numbered declaration is hereby amended to include Baldwin, Clarke, Escambia, Mobile, Monroe and Washington Counties in the State of Alabama as disaster areas due to damages caused by severe storms, tornadoes, and flooding occurring on May 5, 2003 and continuing.

In addition, applications for economic injury loans from small businesses located in the contiguous counties of Butler, Choctaw, Conecuh, Covington, Marengo and Wilcox in the State of Alabama; Escambia, Okaloosa and Santa Rosa in the State of Florida; and George, Greene, Jackson and Wayne Counties in the State of Mississippi may be filed until the specified date at the previously designated location. All other counties contiguous to the above named primary county have been previously declared.

The economic injury number assigned to Florida is 9V5200.

All other information remains the same, i.e., the deadline for filing applications for physical damage is July 11, 2003, and for economic injury the deadline is February 12, 2004.

(Catalog of Federal Domestic Assistance Program Nos. 59002 and 59008).

Dated: May 28, 2003.
Herbert L. Mitchell,
Associate Administrator for Disaster Assistance.

[FR Doc. 03-13776 Filed 6-2-03; 8:45 am]

BILLING CODE 8025-01-P